DEPARTMENT OF COMMERCE

Foreign-Trade Zones Board

[B-26-2020]

Foreign-Trade Zone (FTZ) 116—Port Arthur, Texas; Authorization of Production Activity; Golden Pass LNG Terminal, LLC (Liquified Natural Gas Processing), Port Arthur, Texas

On April 21, 2020, Golden Pass LNG Terminal, LLC submitted a notification of proposed production activity to the FTZ Board for its facility within FTZ 116, in Port Arthur, Texas.

The notification was processed in accordance with the regulations of the FTZ Board (15 CFR part 400), including notice in the Federal Register inviting public comment (85 FR 27206, May 7, 2020). On August 19, 2020, the applicant was notified of the FTZ Board's decision that no further review of the activity is warranted at this time. The production activity described in the notification was authorized, subject to the FTZ Act and the FTZ Board's regulations, including Section 400.14.

Dated: August 19, 2020.
Andrew McGilvray,
Executive Secretary.

[FR Doc. 2020-18590 Filed 8-24-20; 8:45 am]

BILLING CODE 3510-DS-P